COMMITTEE FOR PURCHASE FROM PEOPLE WHO ARE BLIND OR SEVERELY DISABLED

Procurement List; Additions and Deletions

AGENCY: Committee for Purchase From People Who are Blind or Severely Disabled.

ACTION: Additions to and deletions from Procurement List.

SUMMARY: This action adds to the Procurement List a product and a service to be furnished by nonprofit agencies employing persons who are blind or have other severe disabilities, and deletes from the Procurement List products and services previously furnished by such agencies.

EFFECTIVE DATE: January 1, 2006.

ADDRESSES: Committee for Purchase From People Who are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION:

Additions

On September 30, 2005, the Committee for Purchase From People Who are Blind or Severely Disabled published notice (70 FR 57253) of proposed additions to the Procurement List.

After consideration of the material presented to it concerning capability of qualified nonprofit agencies to provide the products and services and impact of the additions on the current or most recent contractors, the Committee has determined that the product and service listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the government.

2. The action will result in authorizing small entities to furnish the product and service to the government.

3. There are no known regulatory alternatives which would accomplish the objectives of the Javits-Wagner-O'Day Act (41 U.S.C. 46-48c) in connection with the product and service proposed for addition to the Procurement List.

End of Certification

Accordingly, the following product and service are added to the Procurement List:

Product

Mat, Floor Rubber.

NSN: 2540-01-298-8449—61″ x 36″ fabricated mat, reinforced with steel wire.

NPA: Hope Haven, Inc., Rock Valley, Iowa.

Contracting Activity: Defense Supply Center Columbus, Columbus, Ohio.

Service

Service Type/Location: Appliance Cleaning Service, Department of Homeland Security, National Records Center, 150 Space Center Loop, Lee's Summit, Missouri.

NPA: Independence and Blue Springs Industries, Inc., Independence, Missouri.

Contracting Activity: DHS—Burlington Contracting Office, South Burlington, Vermont.

Deletions

On October 7, 2005, the Committee for Purchase From People Who are Blind or Severely Disabled published notice (70 FR 58670) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Scourer, Copper.

NSN: M.R. 505—Scourer, Copper.

NPA: Lighthouse for the Blind of the Palm Beaches, Inc., West Palm Beach, Florida.

Contracting Activity: Defense Commissary Agency, Fort Lee, Virginia.

Scrubber, Pot & Dish and Refill.

NSN: M.R. 582—Scrubber, Pot & Dish and Refill.

NPA: Lighthouse International, New York, New York.

Contracting Activity: Defense Commissary Agency (DeCA), Fort Lee, Virginia.

Services

Service Type/Location: Administrative Services, Defense Logistics Agency, DCASR Building B-95, 805 Walker Street, Marietta, Georgia.

NPA: Nobis Enterprises, Inc., Marietta, Georgia.

Contracting Activity: Department of Defense.

Service Type/Location: Furniture Rehabilitation Metal, Naval Ordnance Station, Louisville, Kentucky.

NPA: New Vision Enterprises, Inc., Louisville, Kentucky.

Contracting Activity: Department of the Navy.

Service Type/Location: Janitorial/Custodial, Defense Contracting Management, District South, 805 Walker Street, Marietta, Georgia.

NPA: Nobis Enterprises, Inc., Marietta, Georgia.

Contracting Activity: Department of the Army.

Sheryl D. Kennerly,
Director, Information Management.

[FR Doc. E5-6755 Filed 12-1-05; 8:45 am]

BILLING CODE 6353-01-P